DEPARTMENT OF AGRICULTURE

Forest Service

Notice of Availability of Soil Scientist Specialist Report

AGENCY: Forest Service, USDA.

ACTION: Notice of Availability.

SUMMARY: The Soil Scientist Specialist Report for the Basin Creek Hazardous Fuels Reduction Project Soil Productivity Best Management Practices Monitoring Compliance with Regional Soil Quality Standards is available for public review and comment. This report supplements the soils effects described in the Soils Section of the 2004 Basin Creek Hazardous Fuels Reduction Final Environmental Impact Statement.

DATES: Submit comments on or before November 17, 2006.

ADDRESSES: To send comments use the following mailing addresses:

(1) U.S. Postal Service or hand-delivered comments: Beaverhead-Deerlodge National Forest, Attention: Leaf Magnuson, 420 Barrett St, Dillon, MT 59725.

(2) E-mail: comments-northern-beaverhead-deerlodge-butte@fs.fed.us.

(3) Fax: 406-683-3855 Attn: Leaf Magnuson.

FOR FURTHER INFORMATION CONTACT: Cindy Tencick, 406-683-3930.

Dated: September 26, 2006.
Peri R. Suenram,
Planning, Budget, Systems Staff Officer.

[FR Doc. E6-16317 Filed 10-2-06; 8:45 am]

BILLING CODE 3410-83-P